Executive Order 13206 of April 4, 2001

Termination of Emergency Authority for Certain Export Controls

By the authority vested in me as President by the Constitution and the laws of the United States of America, including the International Emergency Economic Powers Act (50 U.S.C. 1701 et seq.) (IEEPA), the National Emergencies Act (50 U.S.C. 1601 et seq.), the Export Administration Act of 1979, as amended (50 U.S.C. App. 2401 et seq.) (the “Act”), and section 301 of title 3, United States Code, it is hereby ordered as follows:

Section 1. In view of the reauthorization and extension of the Act by Public Law 106-508, Executive Order 12924 of August 19, 1994, which continued the effect of export control regulations under IEEPA, is revoked, and the declaration of economic emergency is rescinded, as provided in this order.

Sec. 2. The revocation of Executive Order 12924 shall not affect any violation of any rules, regulations, orders, licenses, or other forms of administrative action under that order that occurred during the period the order was in effect. All rules and regulations issued or continued in effect under the authority of IEEPA and Executive Order 12924, including those codified at 15 C.F.R. 730-74 (2000), and all orders, regulations, licenses, and other forms of administrative action issued, taken, or continued in effect pursuant thereto, remain in full force and effect, as if issued, taken, or continued in effect pursuant to and as authorized by the Act or by other appropriate authority until amended or revoked by the proper authority. Nothing in this order shall affect the continued applicability of the provision for the administration of the Act and delegations of authority set forth in Executive Order 12002 of July 7, 1977, Executive Order 12214 of May 2, 1980, Executive Order 12938 of November 14, 1994, as amended, Executive Order 12981 of December 5, 1995, as amended, and Executive Order 13026 of November 15, 1996.

Sec. 3. All rules, regulations, orders, licenses, and other forms of administrative action issued, taken, or continued in effect pursuant to the authority of IEEPA and Executive Order 12924 relating to the administration of section 38(e) of the Arms Export Control Act (22 U.S.C. 2778(e)) shall remain in full force and effect until amended or revoked under proper authority.

B

THE WHITE HOUSE,

April 4, 2001.

[FR Doc. 01-8835

Filed 4-6-01; 8:45 am]

Billing code 3195-01-P